DEPARTMENT OF TRANSPORTATION

Federal Aviation Administration

14 CFR Part 39

[Docket No. FAA-2006-24367; Directorate Identifier 2006-NM-041-AD]

RIN 2120-AA64

Airworthiness Directives; Airbus Model A300 F4-600R Series Airplanes and Model A300 C4-605R Variant F Airplanes

AGENCY: Federal Aviation Administration (FAA), Department of Transportation (DOT).

ACTION: Notice of proposed rulemaking (NPRM).

SUMMARY: The FAA proposes to adopt a new airworthiness directive (AD) for certain Airbus Model A300 F4-600R series airplanes and Model A300 C4-605R Variant F airplanes. This proposed AD would require modifying certain structure in the fuselage zone at the lavatory venturi installation in the nose section, and performing a related investigative action and corrective action if necessary. This proposed AD results from an analysis that revealed that airplanes equipped with Airbus Modification 08909 had a concentration of loads higher than expected in the fuselage zone (high stress) at the lavatory venturi installation in the nose section, which could be the origin of cracks that developed in the fuselage skin and propagated from the edge of the air vent hole. We are proposing this AD to prevent fatigue cracking of the fuselage skin, which could result in loss of the structural integrity of the fuselage and consequent rapid depressurization of the airplane.

DATES: We must receive comments on this proposed AD by May 11, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98055-4056; telephone (425) 227-1622; fax (425) 227-1149.

SUPPLEMENTARY INFORMATION:

Comments Invited

We invite you to submit any relevant written data, views, or arguments regarding this proposed AD. Send your comments to an address listed in the ADDRESSES section. Include the docket number “FAA-2006-24367; Directorate Identifier 2006-NM-041-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Model A300 F4-600R series airplanes and Model A300 C4-605R Variant F airplanes. The DGAC advises that analysis revealed that airplanes equipped with Airbus Modification 08909 had a concentration of loads higher than expected in the fuselage zone (high stress) at the lavatory venturi installation area between frame (FR) 12 and FR 12A on the left-hand side of the nose section, which could be the origin of cracks that developed in the fuselage skin and propagated from the edge of the air vent hole. This condition, if not corrected, could result in loss of the structural integrity of the fuselage and consequent rapid depressurization of the airplane.

Relevant Service Information

Airbus has issued Service Bulletin A300-53-6151, dated December 2, 2005. The service bulletin describes procedures for modifying certain structure in the fuselage zone at the lavatory venturi installation area between FR 12 and FR 12A on the left-hand side of the nose section, and performing a related investigative action and corrective action if necessary. The related investigative action is a high frequency eddy current inspection of the skin panel cutout for cracking. The corrective action in the service bulletin recommends contacting Airbus for instructions for crack repair.

The DGAC mandated the service information and issued French airworthiness directive F-2006-030, dated February 1, 2006, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously, except as discussed under “Differences Among Proposed AD, French Airworthiness Directive, and Service Information.”

Differences Among Proposed AD, French Airworthiness Directive, and Service Information

The service bulletin specifies that you may contact the manufacturer for instructions on how to repair certain conditions, but this proposed AD requires you to repair those conditions using a method that we or the DGAC (or its delegated agent) approve. In light of the type of repair that would be required to address the unsafe condition, and consistent with existing bilateral airworthiness agreements, we have determined that, for this proposed AD, a repair we or the DGAC (or its delegated agent) approve is acceptable for compliance with this proposed AD.

The applicability of the French airworthiness directive excludes airplanes on which Airbus Service Bulletin A300-53-6151 was accomplished in service. However, we have not excluded those airplanes in the applicability of this proposed AD; rather, this proposed AD includes a requirement to accomplish the actions specified in that service bulletin. This requirement would ensure that the actions specified in the service bulletin and required by this proposed AD are accomplished on all affected airplanes. Operators must continue to operate the airplane in the configuration required by this proposed AD unless an alternative method of compliance is approved.

Costs of Compliance

This proposed AD would affect about 86 airplanes of U.S. registry. The proposed modification (including the inspection) would take about 28 work hours per airplane, at an average labor rate of $80 per work hour. Required parts would cost about $1,260 per airplane. Based on these figures, the estimated cost of the proposed AD for U.S. operators is $301,000, or $3,500 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-24367; Directorate Identifier 2006-NM-041-AD.

Comments Due Date

(a) The FAA must receive comments on this AD action by May 11, 2006.

Affected ADs

(b) None.

Applicability

(c) This AD applies to Airbus Model A300 F4-605R and F4-622R airplanes and Model A300 C4-605R Variant F airplanes, certificated in any category; on which Airbus Modification 08909 has been done in production; except airplanes on which Airbus Modification 12980 has been done in production.

Unsafe Condition

(d) This AD results from an analysis that revealed that airplanes equipped with Airbus Modification 08909 had a concentration of loads higher than expected in the fuselage zone (high stress) at the lavatory venturi installation in the nose section, which could be the origin of cracks that developed in the fuselage skin and propagated from the edge of the air vent hole. We are issuing this AD to prevent fatigue cracking of the fuselage skin, which could result in loss of the structural integrity of the fuselage and consequent rapid depressurization of the airplane.

Compliance

(e) You are responsible for having the actions required by this AD performed within the compliance times specified, unless the actions have already been done.

Modification/Investigative Action

(f) Before the accumulation of 16,900 total flight cycles since first flight of the airplane: Modify the fuselage zone at the lavatory venturi installation area between frame (FR) 12 and FR 12A on the left-hand side of the nose section and do the related investigative action by accomplishing all the actions specified in the Accomplishment Instructions of Airbus Service Bulletin A300-53-6151, dated December 2, 2005.

Corrective Action

(g) If any crack is found during the inspection required by this AD and Airbus Service Bulletin A300-53-6151, dated December 2, 2005, specifies to contact Airbus for crack repair: Before further flight, repair the crack using a method approved by either the Manager, International Branch, ANM-116, Transport Airplane Directorate, FAA; or the Direction Générale de l'Aviation Civile (or its delegated agent).

Alternative Methods of Compliance (AMOCs)

(h)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directive F-2006-030, dated February 1, 2006, also addresses the subject of this AD.

Issued in Renton, Washington, on March 30, 2006.
Ali Bahrami,
Manager, Transport Airplane Directorate, Aircraft Certification Service.

[FR Doc. E6-5246 Filed 4-10-06; 8:45 am]

BILLING CODE 4910-13-P